DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 31, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on November 29, 2018.
Donald P. Burger,
Chief, General Approvals and Permits Branch.

Special Permits Data
Application No. | Applicant | Regulation(s) affected | Nature of the special permits thereof
7945-M | MEGGITT SAFETY SYSTEMS, INC | 173.304a(a)(1) | To modify the special permit to authorize additional Class 2.2 hazmat to the permit. (modes 1,2,3,4).
12184-M | WELDSHIP CORPORATION | 173.302a(b)(2), 173.302a(b)(3), 173.302a(b)(4), 173.302a(b)(5), 180.205(c), 180.205(f), 180.205(g), 180.205(i), 180.209(a), 180.213 | To modify the special permit to remove the year restriction from the required CGA pamphlet. (modes 1,2,3,4).
14857-M | WESTERN SALES & TESTING OF AMARILLO INC | 180.209 | To modify the special permit to clarify the neck flange/sleeve inspection and cleaning requirements and to authorize additional Class 2.1 and 2.2 hazmat. (modes 1,2,3,4).
20378-M | LG CHEM | 172.101(j) | To modify the special permit to authorize fiberboard boxes as outer packaging. (mode 4).
20500-M | CALIFORNIA DEPARTMENT OF TOXIC SUBSTANCES CONTROL |  | To modify the special permit issued on an emergency basis and make it permanent. (mode 1).
20584-M | BATTERY SOLUTIONS, LLC | 173.185(f)(3), 173.185(c)(1)(iii), 173.185(c)(1)(iv), 173.185(c)(1)(v), 173.185(c)(3), 173.185(f) | To modify the special permit to authorize the use of thermally insulating fire suppressant material in a sufficient quantity and manner that will suppress lithium battery fires, heat and smoke and absorbs the smoke, gases and flammable vapors and electrolytes during a thermal runaway incident. (modes 1,2,3).
20612-M | WILCO MACHINE & FAB, INC | 178.345-7(a)(1), 178.345-3(a) | To modify the special permit to remove the annual testing requirement for some specific tanks. (mode 1).

[FR Doc. 2018-27111 Filed 12-13-18; 8:45 am]

BILLING CODE 4909-60-P